NUCLEAR REGULATORY COMMISSION

[Docket No. 52-009; NRC-2025-1864]

System Energy Resources Inc.; Grand Gulf Site Early Site Permit; Early Site Permit Renewal Application

AGENCY: Nuclear Regulatory Commission.

ACTION: Notice; receipt.

SUMMARY: On September 24, 2025, Entergy Operations, Inc. (Entergy), on behalf of System Energy Resources Inc. (SERI), a subsidiary of Entergy Corporation, filed an application with the U.S. Nuclear Regulatory Commission (NRC), to renew the early site permit (ESP) ESP-002 for the Grand Gulf ESP Site for an additional 20 years beyond the period specified in the current license. The application also includes a request for an exemption from the requirement that the application for renewal must contain all information necessary to bring up to date the information and data contained in the previous application. The current ESP license for the Grand Gulf ESP Site expires on April 5, 2027.

DATES: The ESP renewal application was available as of October 2, 2025.

ADDRESSES: Please refer to Docket ID NRC-2025-1864 when contacting the NRC about the availability of information regarding this document. You may obtain publicly available information related to this document using any of the following methods:

• Federal Rulemaking Website: Go to https://regulations.gov and search for Docket ID NRC-2025-1864. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Carolyn Lauron, telephone 301-415-2736; email: Carolyn.Lauron@nrc.gov, or Mahmoud Jardaneh, telephone: 301-415-4126; email: Mahmoud.Jardaneh@nrc.gov. Both are staff of the Office of Nuclear Reactor Regulation at the U.S. Nuclear Regulatory Commission, Washington, DC 20555-0001.

SUPPLEMENTARY INFORMATION:

I. Introduction

Pursuant to Section 103 of the Atomic Energy Act, as amended, and part 52 of title 10 of the Code of Federal Regulations (10 CFR), “Licenses, Certifications, and Approvals for Nuclear Power Plants,” the applicant, System Energy Resources Inc., a subsidiary of Entergy Operations, Inc., filed an application to request the NRC renew its ESP for the Grand Gulf ESP Site for an additional 20 years beyond the period specified in the current license. The current ESP expires on April 7, 2027.

In accordance with Subpart A of 10 CFR part 52, an applicant may seek an ESP separate from the filing of an application for a construction permit (CP) or combined license (COL) for a nuclear power facility. The ESP process allows resolution of issues relating to siting, and if an application for a CP or COL references an early site permit, the Commission shall treat as resolved those matters resolved in the proceeding on the application for issuance or renewal of the early site permit, except as provided for in paragraphs (b), (c), and (d) of 10 CFR 52.39.

The Grand Gulf ESP renewal application references and proposes to pilot the alternate ESP renewal method described in Appendix A to NEI 25-06, Rev 0. The NRC is reviewing NEI 25-06, Rev 0 and has not made a final determination on the acceptability of the proposed guidance. The application includes a request for an exemption from the requirement of 10 CFR 52.29 that the application for renewal must contain all information necessary to bring up to date the information and data contained in the previous application.

II. Further Information

The NRC will publish subsequent Federal Register notices addressing the acceptability of the tendered ESP renewal application for docketing and, if the application is acceptable for docketing, provisions for public participation in the ESP renewal application review process, including an opportunity to request a hearing. The NRC will post publicly available materials related to this application in ADAMS and on the NRC's public website.

III. Availability of Documents

The following table indicates the ADAMS accession number where the renewal application and related documents are available to interested persons.

Document title | Adams accession No.
Grand Gulf ESP Site, Resubmittal of Request for Exemption from 10 CFR 52.29(a) and Renewal of Early Site Permit ESP-002, dated September 24, 2025 | ML25267A217
NEI Guidance for Implementing the Requirements of 10 CFR part 52 for Early Site Permit Renewal, dated June 9, 2025 | ML25171A132

Dated: December 22, 2025.
For the Nuclear Regulatory Commission.
Mahmoud Jardaneh,
Chief, Licensing and Regulatory Infrastructure Branch, Division of New and Renewed Licenses, Office of Nuclear Reactor Regulation.

[FR Doc. 2025-23843 Filed 12-23-25; 8:45 am]

BILLING CODE 7590-01-P